DEPARTMENT OF DEFENSE

Department of the Army

[Docket ID: USA-2008-0064]

Privacy Act of 1974; System of Records

AGENCY: Department of the Army, DoD.

ACTION: Notice to Amend a System of Records.

SUMMARY: The Department of the Army is amending a system of records notice in its existing inventory of record systems subject to the Privacy Act of 1974 (5 U.S.C. 552a), as amended.

DATES: This proposed action will be effective without further notice on October 31, 2008 unless comments are received which result in a contrary determination.

ADDRESSES: Department of the Army, Privacy Division, U.S. Army Records Management and Declassification Agency, 7701 Telegraph Road, Casey Building, Suite 144, Alexandria, VA 22325-3905.

FOR FURTHER INFORMATION CONTACT: Ms. Vicki Short at (703) 428-6508.

SUPPLEMENTARY INFORMATION: The Department of the Army systems of records notices subject to the Privacy Act of 1974 (5 U.S.C. 552a), as amended, have been published in the Federal Register and are available from the address above.

The specific changes to the record system being amended are set forth below followed by the notice, as amended, published in its entirety. The proposed amendments are not within the purview of subsection (r) of the Privacy Act of 1974 (5 U.S.C. 552a), as amended, which requires the submission of a new or altered system report.

Dated: September 23, 2008.
Patricia L. Toppings,
OSD Federal Register Liaison Officer, Department of Defense.

A0351c TRADOC

SYSTEM NAME:

Standardized Student Records System (December 1, 2000, 65 FR 75252).

Change system ID to “A0350-20 TRADOC”.

* * * * *

STORAGE:

Delete entry and replace with “Paper records and electronic storage media.”

* * * * *

A0350-20 TRADOC

SYSTEM NAME:

Standardized Student Records System.

SYSTEM LOCATION:

Commandant, Defense Language Institute Foreign Language Center, 1330 Plummer Street, Monterey, CA 93944-3326.

CATEGORIES OF INDIVIDUALS COVERED BY THE SYSTEM:

Persons who have been enrolled for foreign language training at the Defense Language Institute Foreign Language Center.

CATEGORIES OF RECORDS IN THE SYSTEM:

Individual's name, Social Security Number, and military administrative data, together with academic data generated at Defense Language Institute Foreign Language Center.

AUTHORITY FOR MAINTENANCE OF THE SYSTEM:

10 U.S.C. 3013, Secretary of the Army; Army Regulation 350-20, Management of the Defense Foreign Language Program; and E.O. 9397 (SSN).

PURPOSE(S):

To establish a permanent student record used for issuing official grade transcripts and preparing statistical studies to improve training and testing methods.

ROUTINE USES OF RECORDS MAINTAINED IN THE SYSTEM, INCLUDING CATEGORIES OF USERS AND THE PURPOSES OF SUCH USES:

In addition to those disclosures generally permitted under 5 U.S.C. 552a(b) of the Privacy Act, these records or information contained therein may specifically be disclosed outside the DoD as a routine use pursuant to 5 U.S.C. 552a(b)(3) as follows:

The DoD ‘Blanket Routine Uses’ set forth at the beginning of the Army's compilation of systems of records notices also apply to this system.

POLICIES AND PRACTICES FOR STORING, RETRIEVING, ACCESSING, RETAINING, AND DISPOSING OF RECORDS IN THE SYSTEM:

STORAGE:

Paper records and electronic storage media.

RETRIEVABILITY:

By Social Security Number, name, service number, class number, language and year.

SAFEGUARDS:

Records are accessible via remote terminal only by authorized personnel citing established user identifier and password.

RETENTION AND DISPOSAL:

Disposition pending (until the National Archives and Records Administration approves retention and disposal schedule, records will be treated as permanent).

SYSTEM MANAGER(S) AND ADDRESS:

Commander, Defense Language Institute Foreign Language Center and Presidio of Monterey, 360 Patton Avenue, Monterey, CA 93944-5000.

NOTIFICATION PROCEDURE:

Individuals seeking to determine whether information about themselves is contained in this system should address written inquiries to the Commandant, Defense Language Institute Foreign Language Center, Academic Records, 1330 Plummer Street, Monterey, CA 93944-3326.

Individual should provide the full name, current address and telephone number, Social Security Number, class attended, and year graduated.

RECORD ACCESS PROCEDURES:

Individuals seeking access to information about themselves contained in this system should address written inquiries to the Commandant, Defense Language Institute Foreign Language Center, Academic Records, 1330 Plummer Street, Monterey, CA 93944-3326.

Individuals should provide the full name, current address and telephone number, Social Security Number, class attended, and year graduated.

CONTESTING RECORD PROCEDURES:

The Army's rules for accessing records, contesting contents, and appealing initial agency determinations are contained in Army Regulation 340-21; 32 CFR part 505; or may be obtained from the system manager.

RECORD SOURCE CATEGORIES:

From the individual; staff and faculty.

EXEMPTIONS CLAIMED FOR THE SYSTEM:

None.

[FR Doc. E8-23009 Filed 9-30-08; 8:45 am]

BILLING CODE 5001-06-P